DEPARTMENT OF TRANSPORTATION

Federal Aviation Administration

14 CFR Part 39

[Docket No. FAA-2012-0297; Directorate Identifier 2011-NM-093-AD; Amendment 39-17003; AD 2012-06-22]

RIN 2120-AA64

Airworthiness Directives; Airbus Airplanes

AGENCY: Federal Aviation Administration (FAA), Department of Transportation (DOT).

ACTION: Final rule; request for comments.

SUMMARY: We are adopting a new airworthiness directive (AD) for all Airbus Model A340-500 and Model -600 series airplanes. This AD requires performing repetitive high frequency eddy current inspections of the external radius on upper horizontal cruciform fitting at frame (FR) 47 on the left- and right-hand sides for cracks, and repairing the cracks if necessary. This AD was prompted by reports that during fatigue testing, damages occurred in the external radius on the upper horizontal cruciform fitting at FR47 on the left- and right-hand sides. We are issuing this AD to detect and correct fatigue cracking, which could adversely affect the structural integrity of the airplane.

DATES: This AD becomes effective April 16, 2012.

The Director of the Federal Register approved the incorporation by reference of the service information listed in the AD as of April 16, 2012.

We must receive comments on this AD by May 14, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Discussion

The European Aviation Safety Agency (EASA), which is the Technical Agent for the Member States of the European Community, has issued EASA Airworthiness Directive 2011-0075, dated April 29, 2011 (referred to after this as “the MCAI”), to correct an unsafe condition for the specified products. The MCAI states:

During the A340-600 EF2 fatigue test, damages occurred in external radius on upper horizontal cruciform in rear corner at FR47 respectively on Right-Hand-(RH) side and on Left-Hand-(LH) side. These damages were detected after tear down inspections using High Frequency Eddy Current method.

This condition, if not corrected, could impair the structural integrity of the aeroplane.

For the reasons described above, this [EASA] AD requires to perform repetitive Special Detailed Inspections for early detection of cracks on upper horizontal cruciform fitting at FR47 on LH and RH sides, and the accomplishment of corrective actions [repair], as applicable.

You may obtain further information by examining the MCAI in the AD docket.

Relevant Service Information

Airbus has issued Mandatory Service Bulletin A340-57-5029, including Appendices 01 and 02, dated February 25, 2011.

For the initial inspection, the compliance time ranges between 4,450 total flight cycles or 35,600 total flight hours and 9,750 total flight cycles or 63,600 total flight hours, whichever occurs first, depending on airplane configuration. For the repetitive intervals, the compliance time ranges between 2,350 flight cycles or 19,000 flight hours, whichever occurs first; and 6,050 flight cycles or 46,200 flight hours, whichever occurs first, depending on airplane configuration.

The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2012-0297; Directorate Identifier 2011-NM-093-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-06-22 Airbus: Amendment 39-17003. Docket No. FAA-2012-0297; Directorate Identifier 2011-NM-093-AD.

(a) Effective Date

This airworthiness directive (AD) becomes effective April 16, 2012.

(b) Affected ADs

None.

(c) Applicability

This AD applies to Airbus Model A340-541 and -642 airplanes, certificated in any category, all manufacturer serial numbers.

(d) Subject

Air Transport Association (ATA) of America Code 57: Wings.

(e) Reason

This AD was prompted by reports that during fatigue testing, damages occurred in the external radius on the upper horizontal cruciform fitting at frame (FR) 47 on the left- and right-hand sides. We are issuing this AD to detect and correct fatigue cracking, which could adversely affect the structural integrity of the airplane.

(f) Compliance

You are responsible for having the actions required by this AD performed within the compliance times specified, unless the actions have already been done.

(g) Inspection

Before the accumulation of the applicable threshold specified in paragraph 1.E. Compliance, Table 2, of Airbus Mandatory Service Bulletin A340-57-5029, including Appendices 01 and 02, dated February 25, 2011, or within 90 days after the effective date of this AD, whichever occurs later: Do a high frequency eddy current inspection of the external radius on upper horizontal cruciform fitting at FR47 on the left- and right-hand sides for cracks, in accordance with the Accomplishment Instructions of Airbus Mandatory Service Bulletin A340-57-5029, including Appendices 01 and 02, dated February 25, 2011. Where the “Threshold” column of Table 2, specified in paragraph 1.E., “Compliance,” of Airbus Mandatory Service Bulletin A340-57-5029, including Appendices 01 and 02, dated February 25, 2011, specifies the compliance time as “FC” and “FH,” this AD requires the compliance times as “total flight cycles” and “total flight hours.” The thresholds for airplane post-modification number 56558S19405 must be counted from the airplane's first flight and not from the accomplishment of Airbus Service Bulletin A340-57-5010.

(h) Repetitive Inspections

Repeat the inspection required by paragraph (g) of this AD at intervals not to exceed the times specified in the “Repetitive Interval” column of Table 2, specified in paragraph 1.E. Compliance, of Airbus Mandatory Service Bulletin A340-57-5029, including Appendices 01 and 02, dated February 25, 2011. Where the “Repetitive Interval” column of Table 2, specified in paragraph 1.E. Compliance, of Airbus Mandatory Service Bulletin A340-57-5029, including Appendices 01 and 02, dated February 25, 2011, specifies the compliance times as “FC” and “FH,” this AD requires the compliance times as “flight cycles” and “flight hours.”

(i) Corrective Action

If any crack is found during the initial or repetitive inspections required by paragraphs (g) and (h) of this AD: Before further flight, contact the Manager, International Branch, ANM-116, FAA; or the European Aviation Safety Agency (EASA) (or its delegated agent); for repair instructions and do the repair.

(j) Reporting Requirement

Submit a report of the findings (both positive and negative) of the inspections required by paragraphs (g) and (h) of this AD, in accordance with the Inspection Report of Airbus Mandatory Service Bulletin A340-57-5029, Appendix 01, dated February 25, 2011, at the applicable time specified in paragraph (j)(1) or (j)(2) of this AD.

(1) If the inspection was done on or after the effective date of this AD: Submit the report within 90 days after the inspection.

(2) If the inspection was done before the effective date of this AD: Submit the report within 90 days after the effective date of this AD.

(k) Credit for Previous Actions

This paragraph provides credit for inspections required by paragraph (g) of this AD, if those inspections were performed before the effective date of this AD using Airbus A340-500/-600 Nondestructive Testing Manual Task 57-18-07, Revision 35, dated April 1, 2011. As of the effective date of this AD, inspections must be repeated in accordance with the requirements of paragraph (h) of this AD.

(l) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(4) Special Flight Permits: Special flight permits, as described in Section 21.197 and Section 21.199 of the Federal Aviation Regulations (14 CFR 21.197 and 21.199), are not allowed.

(m) Related Information

Refer to Mandatory Continuing Airworthiness Information (MCAI) EASA Airworthiness Directive 2011-0075, dated April 29, 2011; and Airbus Mandatory Service Bulletin A340-57-5029, including Appendices 01 and 02, dated February 25, 2011; for related information.

(n) Material Incorporated by Reference

(1) You must use the following service information to do the actions required by this AD, unless the AD specifies otherwise. The Director of the Federal Register approved the incorporation by reference (IBR) of the following service information under 5 U.S.C. 552(a) and 1 CFR part 51:

(i) Airbus Mandatory Service Bulletin A340-57-5029, including Appendices 01 and 02, dated February 25, 2011.

(2) For Airbus service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on March 19, 2012.
Ali Bahrami,
Manager, Transport Airplane Directorate, Aircraft Certification Service.

[FR Doc. 2012-7374 Filed 3-29-12; 8:45 am]

BILLING CODE 4910-13-P